NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold one additional videoconference meeting of the Humanities Panel, a federal advisory committee, in November 2022 and fifteen meetings, by videoconference, of the Humanities Panel during December 2022. The purpose of the meetings is for panel review, discussion, evaluation, and recommendation of applications for financial assistance under the National Foundation on the Arts and the Humanities Act of 1965.

DATES: See SUPPLEMENTARY INFORMATION for meeting dates. The meetings will open at 8:30 a.m. and will adjourn by 5 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: November 30, 2022

This video meeting will discuss applications on the topic of Museums, for the Infrastructure and Capacity Building Challenge Grants program, submitted to the Office of Challenge Programs.

2. Date: December 1, 2022

This video meeting will discuss applications on the topic of U.S. History (Regional, State, and Local), for the Humanities Connections and Reference Resources grant program, submitted to the Division of Preservation and Access.

3. Date: December 1, 2022

This video meeting will discuss applications for Cooperative Agreements and Special Projects, submitted to the Division of Preservation and Access.

4. Date: December 2, 2022

This video meeting will discuss applications on the topic of U.S. History (Pre-1900), for the Humanities Collections and Reference Resources grant program, submitted to the Division of Preservation and Access.

5. Date: December 5, 2022

This meeting will discuss applications on the topics of History and Culture, for the Infrastructure and Capacity Building Challenge Grants program, submitted to the Office of Challenge Programs.

6. Date: December 5, 2022

This video meeting will discuss applications for the Dynamic Language Infrastructure-Documenting Endangered Languages Fellowships grant program, submitted to the Division of Research Programs.

7. Date: December 6, 2022

This video meeting will discuss applications for the Dialogues on the Experience of War grant program, submitted to the Division of Education Programs.

8. Date: December 6, 2022

This video meeting will discuss applications on the topics of Libraries and Archives, for the Infrastructure and Capacity Building Challenge Grants program, submitted to the Office of Challenge Programs.

9. Date: December 7, 2022

This video meeting will discuss applications on the topic of Museums, for the Infrastructure and Capacity Building Challenge Grants program, submitted to the Office of Challenge Programs.

10. Date: December 7, 2022

This video meeting will discuss applications for the Dialogues on the Experience of War grant program, submitted to the Division of Education Programs.

11. Date: December 8, 2022

This video meeting will discuss applications on the topics of History and Culture, for the Infrastructure and Capacity Building Challenge Grants program, submitted to the Office of Challenge Programs.

12. Date: December 9, 2022

This video meeting will discuss applications on the topics of Libraries and Centers, for the Infrastructure and Capacity Building Challenge Grants program, submitted to the Office of Challenge Programs.

13. Date: December 9, 2022

This video meeting will discuss applications for the Fellowship Programs at Independent Research Institutions grant program, submitted to the Division of Research Programs

14. Date: December 12, 2022

This video meeting will discuss applications on the topic of Museums, for the Infrastructure and Capacity Building Challenge Grants program, submitted to the Office of Challenge Programs.

15. Date: December 13, 2022

This video meeting will discuss applications on the topic of Digital Infrastructure, for the Infrastructure and Capacity Building Challenge Grants, submitted to the Office of Challenge Programs.

16. Date: December 16, 2022

This meeting will discuss applications on the topic of Higher Education, for the Infrastructure and Capacity Building Challenge Grants program, submitted to the Office of Challenge Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chair's Delegation of Authority to Close Advisory Committee Meetings dated April 15, 2016.

Dated: November 29, 2022.
Jessica Graves,
Legal Administrative Specialist, National Endowment for the Humanities.

[FR Doc. 2022-26317 Filed 12-2-22; 8:45 am]

BILLING CODE 7536-01-P